FEDERAL DEPOSIT INSURANCE CORPORATION

Agency Information Collection Activities: Submission for OMB Review of Information Collection Reinstatement; Comment Request [OMB No. 3064-0203]

AGENCY: Federal Deposit Insurance Corporation (FDIC).

ACTION: Agency information collection activities: Submission for OMB review; comment request.

SUMMARY: The FDIC, as part of its obligations under the Paperwork Reduction Act of 1995 (PRA), invites the general public and other Federal agencies to take this opportunity to comment on the reinstatement of a previously approved and subsequently discontinued information collection for the Small Business Lending Survey, a survey of banks that the FDIC has proposed to field in May 2022. On April 21, 2021, the FDIC published a notice in the Federal Register requesting comment for 60 days on the proposed reinstatement of this information collection. No comments were received. The FDIC hereby gives notice of its plan to submit to OMB a request to approve the reinstatement of this information collection, and again invites comment.

DATES: Comments must be submitted on or before October 4, 2021.

ADDRESSES: Interested parties are invited to submit written comments to the FDIC by any of the following methods:

• Agency website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street building (located on F Street), on business days between 7:00 a.m. and 5:00 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to reinstate the following collection of information:

Title: FDIC Small Business Lending Survey.

OMB Number: 3064-0203.

Frequency of Response: Once.

Affected Public: FDIC-insured depository institutions.

Estimated Annual Burden:

Summary of Estimated Annual Burden
[OMB No. 3064-0203]
IC description | Type of burden (obligation to respond) | Frequency of response | Number of respondents | Number of responses/ respondent | Hours per response | Annual burden (hours)
Respondents with Gross Annual Revenue Less than $1 Billion | Reporting (Voluntary) | One time | 1,152 | 1 | 3.5 | 4,032
Respondents with Gross Annual Revenue $1 Billion or More | Reporting (Voluntary) | One time | 848 | 1 | 6.5 | 5,512
Total Estimated Annual Burden Hours |  |  |  |  |  | 9,544
Source: FDIC.

General Description of Collection

Small businesses are an important component of the U.S. economy. According to the Small Business Administration (SBA), small firms accounted for almost half of private-sector employment and over 65 percent of net new jobs between 2000 and 2019.¹ Many small businesses have little or no direct access to capital markets and are thus reliant on bank financing, both for operating expenses and for investment. For banks, small business lending is an important way that they help meet their communities' needs, especially for the many banks that primarily focus on commercial rather than consumer lending.

¹ SBA, “Frequently Asked Questions About Small Businesses,” accessed June 9, 2021, https://cdn.advocacy.sba.gov/wp-content/uploads/2020/11/05122043/Small-Business-FAQ-2020.pdf.

Given the value of small businesses to the U.S. economy and the role of bank lending to small businesses, the proposed FDIC 2022 Small Business Lending Survey (SBLS 2022), which surveys banks, will provide important data to complement existing sources of information and will provide additional insight into many aspects of small business lending extended by banks.

The proposed SBLS 2022 will document the current types of credit offered, information banks use to underwrite loans, the market area for small business loans, competition for small business lending, and the practices used to conduct small business lending. SBLS 2022 asks similar questions about banks' lending volumes for business purposes as in the 2016 collection, but by finer gradations for both business size and loan size and by both loans outstanding and loan originations. The proposed collection will also provide new information on banks' current or planned use of financial technology, whether and how banks use automated lending, and the effects of the coronavirus pandemic with respect to their small business loan programs.

Comment Discussion

On April 21, 2021, the FDIC issued a request for comment (86 FR 20697) on a proposed second collection of the SBLS to be fielded in May 2022. No comments were received.

Request for Comment

Comments are invited on: (a) Whether the collection of information is necessary for the proper performance of the FDIC's functions, including whether the information has practical utility; (b) the accuracy of the estimates of the burden of the information collection; (c) ways to enhance the quality, utility, and clarity of the information to be collected; and (d) ways to minimize the burden of the information collection on respondents, including through the use of automated collection techniques or other forms of information technology.

The FDIC will consider all comments to determine the extent to which the information collection should be modified prior to submission to OMB for review and approval. After the comment period closes, comments will be summarized and/or included in the FDIC's request to OMB for approval of the collection. All comments will become a matter of public record.

Federal Deposit Insurance Corporation.
Dated at Washington, DC, on August 27, 2021.
James P. Sheesley,
Assistant Executive Secretary.

[FR Doc. 2021-18951 Filed 9-1-21; 8:45 am]

BILLING CODE 6714-01-P